DEPARTMENT OF COMMERCE

International Trade Administration

[A-580-836]

Certain Cut-To-Length Carbon-Quality Steel Plate Products From the Republic of Korea: Final Results of Antidumping Duty Changed Circumstances Review

AGENCY: Enforcement and Compliance, International Trade Administration, Department of Commerce.

SUMMARY: On August 30, 2023, the U.S. Department of Commerce (Commerce) published the notice of initiation and preliminary results of a changed circumstances review (CCR) of the antidumping duty (AD) order on certain cut-to-length carbon-quality steel plate products (CTL plate) from the Republic of Korea (Korea). For these final results, Commerce continues to find that the post-corporate reorganization Dongkuk Steel Mill Co., Ltd. (Dongkuk Steel) is the successor-in-interest to the pre-reorganization Dongkuk Steel. Furthermore, Dongkuk Steel is entitled to the former Dongkuk Steel's AD cash deposit rates with respect to entries of subject merchandise in each of the above-referenced proceeding.

DATES: Applicable September 29, 2023.

FOR FURTHER INFORMATION CONTACT: Christopher Williams, AD/CVD Operations, Office I, Enforcement and Compliance, International Trade Administration, U.S. Department of Commerce, 1401 Constitution Avenue NW, Washington, DC 20230; telephone: (202) 482-5166.

SUPPLEMENTARY INFORMATION:

Background

On August 30, 2023, Commerce published the Initiation and Preliminary Results,¹ finding that the post-corporate reorganization Dongkuk Steel is the successor-in-interest to the pre-reorganization and identically named Dongkuk Steel, and should be assigned the same AD cash deposit rate assigned to the former Dongkuk Steel in each of the above-referenced proceeding.² In the Initiation and Preliminary Results, we provided all interested parties with an opportunity to comment and request a public hearing regarding our preliminary finding.³ Dongkuk Steel submitted comments agreeing with our preliminary findings in full, and we received no other comments from interested parties.⁴ Additionally, we received no requests for a public hearing from interested parties.

¹ See Certain Cut-to-Length Carbon-Quality Steel Plate Products from the Republic of Korea: Notice of Initiation and Preliminary Results of Antidumping Duty Changed Circumstances Review, 88 FR 59869 (August 30, 2023) (Initiation and Preliminary Results), and accompanying Preliminary Decision Memorandum (PDM).

² See Initiation and Preliminary Results, 88 FR at 59870.

³ Id., 88 FR at 59869.

⁴ See Dongkuk Steel's Letter, “Case Brief,” dated September 13, 2023.

Scope of the Order ⁵

⁵ See Notice of Amendment of Final Determinations of Sales at Less Than Fair Value and Antidumping Duty Orders: Certain Cut-To-Length Carbon-Quality Steel Plate Products from France, India, Indonesia, Italy, Japan and the Republic of Korea, 65 FR 6585, 6586 (February 10, 2000).

The merchandise covered by the order is CTL plate from Korea. For a complete description of the scope of the order, see the Initiation and Preliminary Results PDM.⁶

⁶ See Initiation and Preliminary Results and accompanying PDM.

Final Results of the Changed Circumstances Review

For the reasons stated in the Initiation and Preliminary Results, and because we received no comments from interested parties to the contrary, Commerce continues to find that new Dongkuk Steel is the successor-in-interest to former Dongkuk Steel and is entitled to the same AD cash deposit rate as former Dongkuk Steel with respect to entries of subject merchandise in the above-noted proceeding. As there are no changes from the Initiation and Preliminary Results, there is no decision memorandum accompanying this notice and the determination in the Initiation and Preliminary Results is hereby adopted as the final results of this CCR.

As a result of this determination and consistent with established practice, we find that Dongkuk Steel should receive the AD cash deposit rate previously assigned to former Dongkuk Steel. Consequently, Commerce will instruct U.S. Customs and Border Protection to suspend liquidation of all shipments of subject merchandise produced and/or exported by Dongkuk Steel and entered, or withdrawn from warehouse, for consumption on or after the publication date of this notice in the Federal Register at the AD cash deposit rate in effect for former Dongkuk Steel. This cash deposit requirement shall remain in effect until further notice.

Administrative Protective Order

This notice serves as the only reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216 and 351.221(c)(3).

Dated: September 22, 2023.
Lisa W. Wang,
Assistant Secretary for Enforcement and Compliance.

[FR Doc. 2023-21377 Filed 9-28-23; 8:45 am]

BILLING CODE 3510-DS-P